SECURITIES AND EXCHANGE COMMISSION

[Release No. 34-71556; File No. SR-CBOE-2013-113]

Self-Regulatory Organizations; Chicago Board Options Exchange, Incorporated; Notice of Withdrawal of Proposed Rule Change Relating to Multi-Class Spread Orders

February 18, 2014.

On November 18, 2013, the Chicago Board Options Exchange, Incorporated (the “Exchange” or “CBOE”) filed with the Securities and Exchange Commission (the “Commission”), pursuant to Section 19(b)(1) of the Securities Exchange Act of 1934 (the “Act”) ¹ and Rule 19b-4 thereunder,² a proposed rule change to amend CBOE Rule 24.19 to revise several provisions governing the trading of Multi-Class Spread Orders. The proposed rule change was published for comment in the Federal Register on December 5, 2013.³ The Commission has not received any comment letters on the proposal.

¹ 15 U.S.C. 78s(b)(1).

² 17 CFR 240.19b-4.

³ See Securities Exchange Act Release No. 70961 (November 29, 2013), 78 FR 73211.

On January 7, 2014, the Commission extended the time period in which to either approve the proposed rule change, disapprove the proposed rule change, or institute proceedings to determine whether to disapprove the proposed rule change, to March 5, 2014.⁴ On January 17, 2014, the Exchange submitted Amendment No. 1 to the proposed rule change. On February 12, 2014, the Exchange withdrew the proposed rule change (SR-CBOE-2013-113).

⁴ See Securities Exchange Act Release No. 71248, 79 FR 2239 (January 13, 2013).

For the Commission, by the Division of Trading and Markets, pursuant to delegated authority.⁵
⁵ 17 CFR 200.30-3(a)(31).
Kevin M. O'Neill,
Deputy Secretary.

[FR Doc. 2014-03782 Filed 2-21-14; 8:45 am]

BILLING CODE 8011-01-P